DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA), Department of Commerce.

Title: Quarterly Survey of Transactions in Selected Services and Intellectual Property with Foreign Persons.

OMB Control Number: 0608-0067.

Form Number: BE-125.

Type of Request: Regular submission.

Number of Responses: 8,800 annually (2,200 filed each quarter; 1,700 reporting mandatory data, and 500 that would file other responses).

Average Hours per Response: 18 hours is the average for those reporting data and 1 hour is the average for those not reporting data or providing voluntary responses, but hours may vary considerably among respondents because of differences in company size and complexity.

Estimated Total Annual Burden Hours: 124,400.

Needs and Uses: The Quarterly Survey of Transactions in Selected Services and Intellectual Property with Foreign Persons (BE-125) is a survey that collects data from U.S. persons that engage in covered transactions with foreign persons in selected services or intellectual property. A U.S. person must report if sales of covered services or intellectual property to foreign persons exceeded $6 million for the previous fiscal year, or if sales are expected to exceed that amount during the current fiscal year, or if purchases of covered services or intellectual property from foreign persons exceeded $4 million for the previous fiscal year, or they are expected to exceed that amount during the current fiscal year.

The data are needed to monitor U.S. trade in services, to analyze the impact on the U.S. and foreign economies, to compile and improve the U.S. economic accounts, to support U.S. commercial policy on trade in services, to conduct trade promotion, and to improve the ability of U.S. businesses to identify and evaluate market opportunities. The data are used in estimating the services component of the U.S. international transactions accounts and national income and product accounts.

The Bureau of Economic Analysis (BEA) is proposing the following additions and modifications to the current BE-125 survey to increase the quality and usefulness of BEA's published statistics on trade in services:

(1) Two new schedules, Schedules D and E, will be added to collect additional information related to intellectual property and merchanting services. Schedule D is to be completed by a U.S. person who engages in intellectual property transactions with foreign persons. Schedule E is to be completed by a U.S. person who engages in merchanting services transactions with foreign persons.

(2) Several services categories that are currently collected as part of “other selected services” will be collected separately. These services include audiovisual services, artistic-related services, health services, heritage and recreational services, and other personal services.

(3) “Maintenance services” will be collected separately from “installation, alteration, and training services.”

BEA estimates the proposed changes will increase the average number of hours per response from 16 hours to 18 hours for those reporting data. The reporting thresholds of the current BE-125 survey will be retained. The effort to keep current reporting thresholds unchanged is intended to minimize respondent burden while considering the needs of data users. Existing language in the instructions and definitions will be reviewed and adjusted as necessary to clarify survey requirements.

Affected Public: Businesses or other for-profit organizations.

Frequency: Quarterly.

Respondent's Obligation: Mandatory.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: October 21, 2015.
Sheleen Dumas,
PRA Departmental Lead, Office of the Chief Information Officer.

[FR Doc. 2015-27144 Filed 10-23-15; 8:45 am]

BILLING CODE 3510-06-P